INTERNATIONAL TRADE COMMISSION

[Investigation No. 337-TA-854]

Enforcement Proceeding; Certain Two-Way Global Satellite Communication Devices, System and Components Thereof; Notice of Institution of Formal Enforcement Proceeding

AGENCY: U.S. International Trade Commission.

ACTION: Notice.

SUMMARY: Notice is hereby given that the U.S. International Trade Commission has instituted a formal enforcement proceeding relating to the April 5, 2013, consent order issued in the above-captioned investigation.

FOR FURTHER INFORMATION CONTACT: Clint Gerdine, Esq., Office of the General Counsel, U.S. International Trade Commission, 500 E Street SW., Washington, DC 20436, telephone (202) 708-2310. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted the original investigation on September 21, 2012, based on a complaint filed on behalf of BriarTek IP, Inc. (“BriarTek”) of Alexandria, Virginia. 77 FR 58579-80. The complaint alleged violations of section 337 of the Tariff Act of 1930, as amended, 19 U.S.C. 1337, in the importation into the United States, the sale for importation, and the sale within the United States after importation of certain two-way global satellite communication devices, system and components thereof by reason of infringement of certain claims of U.S. Patent No. 7,991,380 (“the '380 patent”). The complaint further alleged the existence of a domestic industry. The Commission's notice of investigation named as respondents Yellowbrick Tracking, Ltd. (“Yellowbrick”) of Essex, United Kingdom; DeLorme Publishing Company, Inc.; and DeLorme InReach LLC (collectively, “DeLorme”), both of Yarmouth, Maine. On December 7, 2012, Yellowbrick was terminated from the investigation based on a settlement agreement.

On April 5, 2013, the Commission issued notice of its determination not to review the presiding administrative law judge's initial determination granting DeLorme's motion to terminate the investigation based on a consent order stipulation and issued a consent order. The consent order prohibits the importing or selling for importation in the United States, or selling or offering for sale within the United States after importation any two-way global satellite communication devices, system, and components thereof that infringe one or more of claims 1, 2, 5, 10-12, and 34 of the '380 patent.

On April 10, 2013, BriarTek filed a complaint for enforcement proceedings under Commission Rule 210.75. BriarTek asserts that DeLorme has violated the consent order by the continued practice of prohibited activities such as selling or offering for sale within the United States after importation two-way global satellite communication devices, systems, or components thereof that infringe one or more of the asserted claims of the '380 patent.

Having examined the complaint seeking a formal enforcement proceeding, and having found that the complaint complies with the requirements for institution of a formal enforcement proceeding contained in Commission rule 210.75, the Commission has determined to institute formal enforcement proceedings to determine whether DeLorme is in violation of the April 5, 2013 consent order issued in the investigation, and what, if any, enforcement measures are appropriate. The following entities are named as parties to the formal enforcement proceeding: (1) BriarTek, (2) respondent DeLorme, and (3) the Office of Unfair Import Investigations.

The authority for the Commission's determination is contained in section 337 of the Tariff Act of 1930, as amended (19 U.S.C. 1337), and in section 210.75 of the Commission's Rules of Practice and Procedure (19 CFR 210.75).

Issued: May 20, 2013.
By order of the Commission.
Lisa R. Barton,
Acting Secretary to the Commission.

[FR Doc. 2013-12373 Filed 5-23-13; 8:45 am]

BILLING CODE 7020-02-P